DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Annual Northern Seal Subsistence Harvest Reporting and St. George Harvest Management Plan.

OMB Control Number: 0648-0699.

Form Number(s): None.

Type of Request: Regular (extension of a currently approved information collection).

Number of Respondents: 2.

Average Hours per Response: 20.

Burden Hours: 40.

Needs and Uses: The subsistence harvest of northern fur seals is cooperatively managed by the National Oceanic and Atmospheric Administration's (NOAA) National Marine Fisheries Service (NMFS) and the Tribal Governments of St. Paul and St. George Islands (Pribilof Islands) under section 119 of the Marine Mammal Protection Act, 16 U.S.C. 1388 (MMPA) and governed by regulations under section 102 of the Fur Seal Act, 16 U.S.C. 1152 (FSA) found in 50 CFR part 216 subpart F, Taking for Subsistence Purposes. The regulations, laws, and cooperative agreement are focused on conserving northern fur seals through cooperative effort and consultation regarding effective management of human activities related to the subsistence harvests of northern fur seals and Steller sea lions.

Affected Public: State, local and tribal governments; individuals or households.

Frequency: Annually.

Respondent's Obligation: Required to obtain or retain benefit.

This information collection request may be viewed at reginfo.gov. Follow the instructions to view Department of Commerce collections currently under review by OMB.

Written comments and recommendations for the proposed information collection should be sent within 30 days of publication of this notice to OIRA_Submission@omb.eop.gov or fax to (202) 395-5806.

Dated: October 31, 2017.
Sarah Brabson,
NOAA PRA Clearance Officer.

[FR Doc. 2017-23950 Filed 11-2-17; 8:45 am]

BILLING CODE 3510-22-P